FEDERAL ELECTION COMMISSION

Sunshine Act Meeting

AGENCY: Federal Election Commission.

DATE AND TIME: Monday, October 5, 2015 at 2:30 p.m.

PLACE: 999 E Street NW., Washington, DC.

STATUS: This meeting was closed to the public.

ITEMS DISCUSSED: Compliance matters pursuant to 52 U.S.C. 30109.

Internal personnel decisions, or internal rules and practices.

* * * * *

PERSON TO CONTACT FOR INFORMATION: Judith Ingram, Press Officer, Telephone: (202) 694-1220.

Shawn Woodhead Werth,
Secretary and Clerk of the Commission.

[FR Doc. 2015-25736 Filed 10-6-15; 11:15 am]

BILLING CODE 6715-01-P